NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on October 6-8, 2005, 11545 Rockville Pike, Rockville, Maryland. The date of this meeting was previously published in the Federal Register on Wednesday, November 24, 2004 (69 FR 68412).

Thursday, October 6, 2005, Conference Room T-2B3, Two White Flint North, Rockville, Maryland

8:30 a.m.-8:35 a.m.: Opening Remarks by the ACRS Chairman (Open)—The ACRS Chairman will make opening remarks regarding the conduct of the meeting.

8:35 a.m.-10 a.m.: Interim Review of the License Renewal Application for the Browns Ferry Nuclear Plant, Units 1, 2, and 3 (Open)—The Committee will hear presentations by and hold discussions with representatives of the Tennessee Valley Authority and the NRC staff regarding the license renewal application for the Browns Ferry Nuclear Plant, Units 1, 2, and 3 and the NRC staff's Safety Evaluation Report with Open Items.

10:15 a.m.-11:45 a.m.: Proposed Recommendations for Resolving Generic Safety Issue (GSI)-80, “Pipe Break Effects on Control Rod Drive Hydraulic Lines in the Drywells of Boiling Water Reactor Mark I and II Containments” (Open)—The Committee will hear presentations by and hold discussions with representatives of the NRC staff regarding the recommendations proposed by the NRC Office of Nuclear Regulatory Research for resolving GSI-80.

12:45 p.m.-2:15 p.m.: Resolution of ACRS Comments on the Draft Final Regulatory Guide, “Risk-Informed, Performance-Based Fire Protection for Existing Light Water Nuclear Power Plants” (Open)—The Committee will hear presentations by and hold discussions with representatives of the NRC staff and Nuclear Energy Institute (NEI) regarding the changes made to this Guide and to NEI 04-02, “Guidance for Implementing a Risk-Informed, Performance-Based Fire Protection Program Under 10 CFR 50.48(c),” in response to the ACRS comments and recommendations included in its June 14, 2005 letter.

2:30 p.m.-4 p.m.: Davis-Besse Reactor Pressure Vessel Head Integrity Calculations (Open)—The Committee will hear presentations by and hold discussions with representatives of the NRC staff regarding the expert elicitation and calculations performed for the reactor pressure vessel head integrity of the Davis-Besse Nuclear Power Plant.

4:15 p.m.-5:15 p.m.: Quality Assessment of the Selected NRC Research Program(Open)—The Committee will discuss the results of the cognizant ACRS panel's assessment of the quality of the NRC research projects on: Standardized Plant Analysis Risk (SPAR) Models Development Program; Steam Generator Tube Integrity Program at the Argonne National Laboratory; and the Thermal-Hydraulic Test Program at the Penn State University.

5:30 p.m.-7 p.m.: Preparation of ACRS Reports (Open)—The Committee will discuss proposed ACRS reports on matters considered during this meeting.

Friday, October 7, 2005, Conference Room T-2B3, Two White Flint North, Rockville, Maryland

8:30 a.m.-8:35 a.m.: Opening Remarks by the ACRS Chairman (Open)—The ACRS Chairman will make opening remarks regarding the conduct of the meeting.

8:35 a.m.-10 a.m.: Licensees' Responses to the Bulletin on, “Emergency Preparedness and Response Actions for Security-Based Events” (Open/Closed)—The Committee will hear presentations by and hold discussions with representatives of the NRC staff regarding licensees' responses to the Bulletin related to Emergency Preparedness and Response Actions for Security-Based Events.

10:15 a.m.-11:15 a.m.: NRC Staff's Response to the ACRS Letter on the Proposed Revision 4 to Regulatory Guide 1.82, “Water Sources for Long-Term Recirculation Cooling Following a Loss-of-Coolant Accident” (Open)—The Committee will hear presentations by and hold discussions with representatives of the NRC staff regarding the staff's response to the ACRS letter on the Proposed Revision 4 to Regulatory Guide 1.82.

11:15 a.m.-12:15 p.m.: Format and Content of the NRC Safety Research Program Report to the Commission (Open)—The Committee will hear a report by and hold discussions with the Chairman of the ACRS Subcommittee on Safety Research Program regarding the format and content of the ACRS report to the Commission on the NRC Safety Research Program as well as assignments for the ACRS members.

1:15 p.m.-2:15 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

2:15 p.m.-2:30 p.m.: Reconciliation of ACRS Comments and Recommendations (Open)—The Committee will discuss the responses from the NRC Executive Director for Operations to comments and recommendations included in recent ACRS reports and letters.

2:30 p.m.-3 p.m.: Subcommittee Report (Open)—The Committee will hear a report by and hold discussions with the Chairmen of the ACRS Subcommittees on Plant Operations and Plant License Renewal regarding matters discussed at the September 21, 2005 Subcommittee meeting.

3:15 p.m.-7 p.m.: Preparation of ACRS Reports (Open)—The Committee will discuss proposed ACRS reports.

Saturday, October 8, 2005, Conference Room T-2B3, Two White Flint North, Rockville, Maryland

8:30 a.m.-12 Noon: Preparation of ACRS Reports (Open)—The Committee will continue its discussion of proposed ACRS reports.

12 Noon-12:30 p.m.: Miscellaneous (Open)—The Committee will discuss matters related to the conduct of Committee activities and matters and specific issues that were not completed during previous meetings, as time and availability of information permit.

Procedures for the conduct of and participation in ACRS meetings were published in the Federal Register on October 5, 2004 (69 FR 59620). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) Public Law 92-463, I have determined that it is necessary to close portions of this meeting noted above to discuss and protect information classified as national security information and safeguards information pursuant to 5 U.S.C. 552b(c)(1) and (3).

Further information regarding topics to be discussed, whether the meeting has been canceled or rescheduled, as well as the Chairman's ruling on requests for the opportunity to present oral statements and the time allotted therefor can be obtained by contacting Mr. Sam Duraiswamy, Cognizant ACRS staff (301-415-7364), between 7:30 a.m. and 4:15 p.m., ET.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., ET, at least 10 days before the meeting to ensure the availability of this service. Individuals or organizations requesting this service will be responsible for telephone line charges and for providing the equipment and facilities that they use to establish the videoteleconferencing link. The availability of videoteleconferencing services is not guaranteed.

Dated: September 16, 2005.
Annette L. Vietti-Cook,
Secretary of the Commission.

[FR Doc. 05-18913 Filed 9-21-05; 8:45 am]

BILLING CODE 7590-01-P